DEPARTMENT OF THE INTERIOR

Bureau of Land Management

[LLIB00000 L11500000.CB0000 LXSS024D0000: 4500006248]

Call for Nomination To Fill Vacancy on BLM Boise District Resource Advisory Council

AGENCY: Bureau of Land Management, Department of Interior.

ACTION: Call for nomination to fill vacancy on BLM Boise District Resource Advisory Council.

SUMMARY: The purpose of this notice is to request public nominations to fill one position in Category Three, (Elected Official), for Idaho's Boise District Resource Advisory Council. The Federal Land Policy and Management Act (FLPMA) (43 U.S.C. 1730) directs the Secretary of the Interior to involve the public in planning and issues related to management of lands administered by the BLM. Section 309 of FLPMA directs the Secretary to select 10 to 15 member citizen-based advisory councils, which are consistent with the requirements of the Federal Advisory Committee Act (FACA). RACs are found at 43 CFR part 1784.

DATES: The BLM will accept public nominations until March 2, 2009. Applicants are requested to submit a completed nomination form and letters of reference to the address listed below.

FOR FURTHER INFORMATION CONTACT: Contact MJ Byrne, Coordinator, Resource Advisory Council, Boise District, Bureau of Land Management, 3948 Development Avenue, Boise, Idaho 83705, phone (208) 384-3393.

SUPPLEMENTARY INFORMATION: The Bureau of Land Management's (BLM), Boise District Resource Advisory Council is hosting a call for nominations for the position of Elected Official (representatives of state, county, or local elected office) on the Advisory Council. Upon appointment, the individual selected to this position will fill the seat until September 30, 2009, the remainder of this position's term. Individuals may nominate themselves or others. Nominees must be residents of Idaho and are encouraged to reside within the geographical boundaries of the Boise District. The BLM will evaluate nominees based on their education, training, experience, and their knowledge of the geographical area of the RAC. Nominees should demonstrate a commitment to collaborative resource decision making.

The following must accompany nominations:

• Letters of reference from represented interest or organizations,

• A completed background information nomination form; and,

• Any other information that highlights the nominee's qualifications.

David Wolf,
Associate District Manager.

[FR Doc. E9-768 Filed 1-14-09; 8:45 am]

BILLING CODE 4310-GG-P